ENVIRONMENTAL PROTECTION AGENCY

[9993-01-OA]

Children's Health Protection Advisory Committee

AGENCY: Environmental Protection Agency (EPA).

ACTION: Request for nominations to the Children's Health Protection Advisory Committee.

SUMMARY: The U.S. Environmental Protection Agency (EPA) invites nominations from a range of qualified candidates for consideration for appointment to its Children's Health Protection Advisory Committee (CHPAC). EPA anticipates filling vacancies by March 1, 2023. EPA may use additional sources to solicit nominees.

Background: CHPAC is chartered under the Federal Advisory Committee Act (FACA), Public Law 92-463. EPA established this Committee in 1997 to provide independent advice to the EPA Administrator on a broad range of environmental issues affecting children's health.

The EPA Administrator appoints members for three-year terms with a cap on service at six years. The Committee meets 2-3 times annually and the average workload is approximately 10 to 15 hours per month. EPA provides reimbursement for travel and other incidental expenses associated with official government business, but members must be able to cover expenses prior to reimbursement.

The CHPAC is looking for representatives from industry; tribal, state, county and local government; school systems; academia; health care providers (including pediatricians, obstetric professionals, occupational medicine practitioners and community nurses); and non-governmental organizations.

The types of experience necessary includes: children's environmental health and development; epidemiology and toxicology; role of environmental chemicals in childhood diseases such as asthma, obesity and attention-deficit/hyperactivity disorder (ADHD); prenatal environmental exposures and adverse health outcomes; specific environmental exposures to chemicals such as lead, mercury and other heavy metals that adversely impact children's health; tribal children's environmental health; children's environmental health disparities; research; air quality (indoor and outdoor); water quality; EPA regulation development; risk assessment; exposure assessment; science policy; public health information tracking; and outreach and risk communication.

EPA is looking for background and experience that would contribute to the diversity of perspectives on the committee (e.g., geographic, economic, social, cultural, racial, ethnicity, educational, and other considerations).

Nominees must have the ability to volunteer time to attend meetings 2-3 times a year in Washington, DC, participate in teleconference meetings, develop recommendations to the EPA Administrator, and prepare reports and advice letters.

In accordance with Executive Order 14035 (June 25, 2021), EPA values and welcomes opportunities to increase diversity, equity, inclusion and accessibility on its federal advisory committees. EPA's federal advisory committees have a workforce that reflects the diversity of the American people.

Nominations must include the following information:

• Brief statement describing the nominee's interest in serving on the CHPAC.

• Short biography (no more than one page) describing the professional and educational qualifications, including a list of relevant activities, and any current or previous service on federal advisory committees.

• Statement about the perspective the nominee brings to the committee.

• Current contact information for the nominee, including name, organization (and position within that organization), business address, email address, and telephone number.

• Candidates may self-nominate; one letter of support is welcome.

Submit nominations by August 15, 2022 by email to EPA_CHPAC@icfi.com and Nguyen.Amelia@epa.gov or mail to Amelia Nguyen, Designated Federal Officer, Office of Children's Health Protection, U.S. Environmental Protection Agency, Mail Code 1107T, 1200 Pennsylvania Avenue NW, Washington, DC 20460.

FOR FURTHER INFORMATION CONTACT: Amelia Nguyen, Designated Federal Officer, U.S. EPA; telephone (202) 564-4268 or Nguyen.Amelia@epa.gov.

Amelia Nguyen,
Designated Federal Officer, Office of Children's Health Protection.

[FR Doc. 2022-14394 Filed 7-6-22; 8:45 am]

BILLING CODE P